FEDERAL COMMUNICATIONS COMMISSION

47 CFR Part 101

[ET Docket No. 98-206; RM-9147; RM-9245; DA 04-3007]

Amendment of the Commission's Rules Governing Multichannel Video Distribution and Data Service in the 12.2-12.7 GHz Band

AGENCY: Federal Communications Commission.

ACTION: Correcting amendment.

SUMMARY: On April 11, 2002, the Commission adopted rules to establish technical, service and licensing rules governing Multichannel Video Distribution and Data Service (MVDDS) in the 12 GHz band. Because an error was made in the final rules, this document contains correcting amendments to the final rules that were published in the Federal Register.

DATES: Effective on October 4, 2004.

FOR FURTHER INFORMATION CONTACT: Jennifer Mock, Broadband Division, Wireless Telecommunications Bureau at (202) 418-2487.

SUPPLEMENTARY INFORMATION: The Federal Communications Commission published in the Federal Register final rules, 67 FR 43031, June 26, 2002, in the above captioned proceeding (Memorandum Opinion and Order and Second Report and Order). The instant document corrects an error in a note to section 101.1412.

Procedural Matters

Any impact as defined by the Paperwork Reduction Act of 1995 (PRA), Public Law 104-13, the Congressional Review Act (CRA), and the Regulatory Flexibility Act of 1980, as amended (RFA) was addressed at the time of adoption and release of the Memorandum Opinion and Order and Second Report and Order, FCC 02-116, adopted on April 11, 2002, and released on May 23, 2003, 67 FR 43031, June 26, 2002. Therefore, the PRA, CRA and RFA requirements have already been fulfilled for these rules.

List of Subjects in 47 CFR Part 101

Communications common carriers, Communications equipment, Radio.

Federal Communications Commission.
Peter J. Daronco,
Assistant Chief, Broadband Division Wireless Telecommunications Bureau.

Accordingly, 47 CFR part 101 is corrected by making the following correcting amendments:

PART 101—FIXED MICROWAVE SERVICES

1. The authority citation for part 101 continues to read as follows:

Authority: 47 U.S.C. 154, 303.

2. Section 101.1412 is amended by removing the Note immediately following paragraph (f)(6) and by adding a Note immediately following paragraph (g)(6) to read as follows:

§ 101.1412 MVDDS eligibility restrictions for cable operators.

* * * * *

(g) * * *

(6) * * *

Note to § 101.1412: Waivers of § 101.1412(f) may be granted upon an affirmative showing:

(a) That the interest holder has less than a fifty percent voting interest in the licensee and there is an unaffiliated single holder of a fifty percent or greater voting interest;

(b) That the interest holder is not likely to affect the local market in an anticompetitive manner;

(c) That the interest holder is not involved in the operations of the licensee and does not have the ability to influence the licensee on a regular basis; and

(d) That grant of a waiver is in the public interest because the benefits to the public of common ownership outweigh any potential anticompetitive harm to the market.

[FR Doc. 04-22226 Filed 10-1-04; 8:45 am]

BILLING CODE 6712-01-P